DEPARTMENT OF TRANSPORTATION

Federal Highway Administration

Notice of Final Federal Agency Actions on Proposed Highway in Utah

AGENCY: Utah Department of Transportation (UDOT), Federal Highway Administration (FHWA), Department of Transportation.

ACTION: Notice of limitation on claims for judicial review of actions taken by UDOT on behalf of FHWA.

SUMMARY: This notice announces certain actions taken by UDOT that are final Federal agency actions within the meaning of 23 U.S.C. 139(l)(1). These actions relate to a proposed highway project on Interstate 15 (I-15) Northbound, from Bangerter Highway to Interstate 215 (I-215), in the County of Salt Lake, State of Utah. Those actions grant licenses, permits and/or approvals for the project.

DATES: By this notice, the FHWA, on behalf of UDOT, is advising the public of final Federal agency actions subject to 23 U.S.C. 139(l)(1). A claim seeking judicial review of the Federal agency actions on the highway project will be barred unless the claim is filed on or before July 8, 2019. If the Federal law that authorizes judicial review of a claim provides a time period of less than 150 days for filing such claim, then that shorter time period still applies.

FOR FURTHER INFORMATION CONTACT: Brandon Weston, Director of Environmental Services, UDOT Environmental Services, PO Box 143600, Salt Lake City, UT 84114; telephone: (801) 965-4603; email: brandonweston@utah.gov. UDOT's normal business hours are 8:00 a.m. to 5:00 p.m. (Mountain Standard Time), Monday through Friday, except State and Federal holidays.

SUPPLEMENTARY INFORMATION: Effective January 17, 2017, FHWA assigned to UDOT certain responsibilities of FHWA for environmental review, consultation, and other actions required by applicable Federal environmental laws and regulations for highway projects in Utah, pursuant to 23 U.S.C. 327. Actions taken by UDOT on FHWA's behalf pursuant to 23 U.S.C. 327 constitute Federal agency actions for purposes of Federal law. Notice is hereby given that UDOT has taken final agency actions subject to 23 U.S.C. 139(l)(1) by issuing licenses, permits, and approvals for the I-15 Northbound; Bangerter Highway to I-215 project in the State of Utah. This project proposes to address current and future travel demand and improve safety on northbound I-15 between Bangerter Highway and I-215. Improvements include construction of two separate collector-distributor (C-D) systems; each would consist of a three-lane roadway that would be separated from mainline northbound I-15 by a concrete traffic barrier. Northbound C-D System A would separate from I-15 just prior to 9000 South and connect to the I-215 east/westbound entrance ramps and the 7200 South exit ramp. Northbound C-D System B would separate from I-15 at Bangerter Highway and would rejoin I-15 at 9000 South. C-D System B would provide connections to the following locations: 12300 South, 11400 South, 10600 South and 9000 South. These improvements were identified in the Environmental Assessment (EA) as Alternative 3. The actions by UDOT, and the laws under which such actions were taken, are described in the EA and UDOT Finding of No Significant Impact (FONSI) for the project (Finding of No Significant Impact, Environmental Assessment and Section 4(f) Evaluation, 1-15 Northbound; Bangerter Highway to I-215 in Salt Lake County, Utah, Project No. S-I15-7(341)295), issued on November 12, 2018, and in other documents in the UDOT project records. The EA and FONSI, and other project records are available by contacting UDOT at the address provided above. The EA and FONSI can also be viewed and downloaded from the project website at http://www.udot.utah.gov/i15northbound/.

This notice applies to the EA, the FONSI, the Section 4(f) Determination, the NHPA Section 106 Review, the noise assessment, the Endangered Species Act and Migratory Bird Treaty Act determinations; and all other UDOT decisions and other actions with respect to the project as of the issuance date of this notice and all laws under which such actions were taken, including but not limited to the following laws (including their implementing regulations):

1. General: National Environmental Policy Act (NEPA),42 U.S.C. 4321-4351; Federal-Aid Highway Act, 23 U.S.C. 109 and 23 U.S.C. 128

2. Air: Clean Air Act, 42 U.S.C. 7401-7671q

3. Land: Section 4(f) of the Department of Transportation Act of 1966, 49 U.S.C. 303; 23 U.S.C. 138; Landscaping and Scenic Enhancement (Wildflowers), 23 U.S.C. 319; Land and Water Conservation Fund (LWCF) Act, 54 U.S.C. 200302-200310

4. Wildlife: Endangered Species Act, 16 U.S.C. 1531-1544 and Section 1536; Fish and Wildlife Coordination Act, 16 U.S.C. 661-667d; Migratory Bird Treaty Act, 16 U.S.C. 703-712

5. Water: Section 404 of the Clean Water Act, 33 U.S.C. 1344; E.O. 11990, Protection of Wetlands; Section 402 of the Clean Water Act, 33 U.S.C. 1342

6. Historic and Cultural Resources: Section 106 of the National Historic Preservation Act of 1966, 16 U.S.C. 470f; Archeological Resources Protection Act of 1977, 16 U.S.C. 470aa-470mm; Archeological and Historic Preservation Act, 16 U.S.C. 469-469c

7. Noise: Federal-Aid Highway Act of 1970, Public Law 91-605, 84 Stat. 1713

8. Executive Orders: E.O. 11593 Protection and Enhancement of Cultural Resources; E.O. 13287 Preserve America; E.O. 12898, Federal Actions to Address Environmental Justice and Low-Income Populations

(Catalog of Federal Domestic Assistance Program Number 20.205, Highway Planning and Construction. The regulations implementing Executive Order 12372 regarding intergovernmental consultation on Federal programs and activities apply to this program.)

Authority: 23 U.S.C. 139(l)(1).

Issued on: December 20, 2018.
Ivan Marrero,
Division Administrator, Federal Highway Administration, Salt Lake City, Utah.

[FR Doc. 2019-01169 Filed 2-7-19; 8:45 am]

BILLING CODE 4910-RY-P